DEPARTMENT OF THE INTERIOR

Fish and Wildlife Service

Banks Lake National Wildlife Refuge

AGENCY: Fish and Wildlife Service, Interior.

ACTION: Notice of intent to prepare a comprehensive conservation plan and environmental assessment for Banks Lake National Wildlife Refuge in Lanier County, Georgia.

SUMMARY: The Fish and Wildlife Service intends to gather information necessary to prepare a comprehensive conservation plan and environmental assessment for Banks Lake National Wildlife Refuge. This notice is furnished in compliance with the Service's comprehensive conservation planning policy to advise other agencies and the public of our intentions, and to obtain suggestions and information on the scope of issues to be considered in the planning process.

DATES: To ensure consideration, comments must be received by January 7, 2008.

ADDRESSES: Comments, questions, and requests for more information regarding Banks Lake National Wildlife Refuge should be sent to: Ms. Laura Housh, Regional Planner, Okefenokee National Wildlife Refuge, Route 2, Box 3330, Folkston, Georgia 31537; Phone: 912/496-7366, Ext. 244; Fax: 912/496-3332; E-mail: laura_housh@fws.gov. You may find additional information concerning the refuge at the refuge's Internet site: http://www.fws.gov/southeast/BanksLake.

FOR FURTHER INFORMATION CONTACT: Mr. George Constantino, Refuge Manager, Okefenokee National Wildlife Refuge; Telephone: 912/496-7366.

SUPPLEMENTARY INFORMATION: The National Wildlife Refuge System Administration Act of 1966, as amended by the National Wildlife Refuge System Improvement Act of 1997 (16 U.S.C. 668dd-668ee), requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation. Public input in this planning process is essential.

Each unit of the National Wildlife Refuge System is established with specific purposes. These purposes are used to develop and prioritize management goals and objectives with the National Wildlife Refuge System mission, and to guide which public uses will occur on the refuge. The planning process is a means for the Service and the public to evaluate management goals and objectives for the best possible conservation efforts of this important wildlife habitat, while providing for wildlife-dependent recreation opportunities that are compatible with the refuge's establishing purposes and the mission of the National Wildlife Refuge System.

A comprehensive conservation planning process will be conducted that will provide opportunities for Tribal, State, Federal, and local governments; non-governmental organizations; and the public to participate in issue scoping and comment. The Service invites anyone interested to respond to the following questions:

1. What problems or issues do you want to see addressed in the comprehensive conservation plan?

2. What improvements would you recommend for Banks Lake National Wildlife Refuge?

The above questions have been provided for your optional use. You are not required to provide any information. The Planning Team developed these questions to gather information about individual issues and ideas concerning the refuge. The Planning Team will use comments it receives as part of the planning process; however, it will not reference individual comments or directly respond to them.

Special mailings, newspaper articles, and other media outlets will be used to announce opportunities for input throughout the planning process. An open house style meeting will be held to solicit comments during the scoping phase of the planning process.

The environmental review of this project will be conducted in accordance with the requirements of the National Environmental Policy Act of 1969, as amended (42 U.S.C. 4321, et seq.); NEPA regulations (40 CFR parts 1500-1508); and other appropriate Federal laws and regulations. All comments received become part of the official public record. Before including your address, phone number, e-mail address, or other personal identifying information in your comment, you should be aware that your entire comment, including your personal identifying information, may be made publicly available at any time. While you can ask us in your comment to withhold your personal identifying information from public review, we cannot guarantee that we will be able to do so.

Congress established Banks Lake National Wildlife Refuge in 1985, for the protection and conservation of its unique environment, as well as for migratory and resident wildlife. The refuge comprises 3,559 acres of open water, marsh, hardwood swamp, and uplands. The refuge coordinates with State, Federal, and local agencies; The Nature Conservancy; Moody Air Force Base; and adjacent landowners to fulfill the mission of the National Wildlife Refuge System and promote sound ecological landscape management. Public use opportunities on the refuge include fishing, boating (e.g., small engine, canoe, and kayak), wildlife observation and photography, and hiking.

Authority: This notice is published under the authority of the National Wildlife Refuge System Improvement Act of 1997, Public Law 105-57.

Dated: October 31, 2007.
Cynthia K. Dohner,
Acting Regional Director.

[FR Doc. E7-23643 Filed 12-5-07; 8:45 am]

BILLING CODE 4310-55-P